DEPARTMENT OF AGRICULTURE

Submission for OMB Review; Comment Request

July 30, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Implementation of the APHIS Ag Discovery Program.

OMB Control Number: 0579-NEW.

Summary of Collection: Ag-Discovery is an outreach program designed to give students ages 12-17 an opportunity to learn about agriculture, the mission of the Animal and Plant Health Inspection Service (APHIS) programs. The objective(s) of the Ag-Discovery Program is to: (1) Provide students an opportunity to live on a university campus while learning about APHIS programs; (2) identify and recruit students who are interested in agricultural science; (3) provide demonstrations in APHIS programs including veterinary medicine, animal science, plant pathology; and (4) increase awareness of career opportunities within APHIS. The Application and brochure is provided to the applicant via of the APHIS and University Web site.

Need and Use of the Information: APHIS will collect information annually to be used to select the participants for the various Ag Discovery Programs. The application provides the information needed to assess the students true interest in agriculture; provide references from others who are familiar with the students interest and character; and provides verification of the students age and enrollment in school. The information collected from the applications will help APHIS to rate and rank the applicants.

Description of Respondents: Individuals or households.

Number of Respondents: 210.

Frequency of Responses: Reporting: Annually.

Total Burden Hours: 3,780.

Ruth Brown,
Departmental Information Collection Clearance Officer.

[FR Doc. E9-18586 Filed 8-3-09; 8:45 am]

BILLING CODE 3410-34-P